DEPARTMENT OF DEFENSE

Office of the Secretary

[Transmittal No. 22-0E]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with the attached Transmittal 22-0E.

Dated: May 8, 2024.
Aaron T. Siegel,
Alternate OSD Federal Register Liaison Officer, Department of Defense.

BILLING CODE 6001-FR-P

BILLING CODE 6001-FR-C

Transmittal No. 22-0E

REPORT OF ENHANCEMENT OR UPGRADE OF SENSITIVITY OF TECHNOLOGY OR CAPABILITY (SEC. 36(B)(5)(C), AECA)

(i) Purchaser: Government of France

(ii) Sec. 36(b)(1), AECA Transmittal No.: 20-40

Date: July 6, 2020

Military Department: Navy

(iii) Description: On July 6, 2020, Congress was notified by Congressional certification transmittal number 20-40, of the possible sale, under Section 36(b)(1) of the Arms Export Control Act, of three (3) E-2D Advanced Hawkeye Aircraft, ten (10) T-56-427A engines (6 installed and 4 spares), three (3) AN/APY-9 radar assemblies, four (4) AN/ALQ-217 electronic support measure systems (3 installed and 1 spare), three (3) AN/AYK-27 Integrated Navigation Channels and Display Systems, five (5) Link-16 (MIDS-JTRS) Communications Systems (3 installed and 2 spares), ten (10) Embedded GPS/INS (EGI) Devices (6 installed and 4 spares), four (4) AN/APX-122(A) and AN/APX-123(A) Identification, Friend or Foe systems (3 installed and 1 spare) and one (1) Joint Mission Planning System. Also included were Common Systems Integration Laboratories with/Test Equipment, one in Melbourne, FL, and the other in France; air and ground crew equipment; support equipment; spare and repair parts; publications and technical documentation; transportation; training and training equipment; U.S. Government and contractor logistics, engineering, and technical support services; and other related elements of logistics and program support. The estimated total cost was $2 billion. Major Defense Equipment (MDE) constituted $1.3 billion of this total.

This transmittal notifies the inclusion of: one (1) Tactics Trainer—Weapon Systems (TT) (MDE). Also included are additional training devices, spares, and services. The total estimated MDE value will increase by $42 million, resulting in a new MDE total of $1.35 billion. The total estimated case value will increase to $2.1 billion.

(iv) Significance: The proposed sale will improve France's ongoing E-2D acquisition. These trainers directly support France's capabilities for Electronic Warfare, air safety, NATO missions, and interoperability with U.S. forces.

(v) Justification: This proposed sale will support the foreign policy and national security of the United States by helping to improve the security of a NATO ally which is an important force for political stability and economic progress in Europe.

(vi) Sensitivity of Technology: The E-2D Tactics Trainer—Weapon Systems (TT) delivers a comprehensive and dynamic high fidelity environment simulating the E-2D Advanced Hawkeye (AHE) Combat Information Center (CIC) and related aircraft subsystems. The TT provides coordinated ground based qualification and continuation training for Naval Flight Officer (NFO) crew positions of the E-2D including: Air Control Officer (ACO), Combat Information Center Officer (CICO), Radar Officer (RO), and Tactical Forth Operator and an Instructor Operation Station (IOS) for simulation control and recording of student performance.

The highest level of classification of defense articles, components, and services included in this potential sale is SECRET.

(vii) Date Report Delivered to Congress: April 5, 2022

[FR Doc. 2024-10471 Filed 5-13-24; 8:45 am]

BILLING CODE 6001-FR-P